DEPARTMENT OF HEALTH AND HUMAN SERVICES

National Institutes of Health

Request for Information on the Development of the Fiscal Years 2026-2030 NIH-Wide Strategic Plan for Sexual & Gender Minority Health Research

AGENCY: National Institutes of Health, HHS.

ACTION: Request for information.

SUMMARY: Through this Request for Information (RFI), the Sexual & Gender Minority Research Office (SGMRO) in the Division of Program Coordination, Planning, and Strategic Initiatives (DPCPSI), Office of the Director (OD), National Institutes of Health (NIH), invites feedback from the scientific research community, clinical practice communities, patient and family advocates, scientific or professional organizations, federal partners, internal NIH stakeholders, and other interested constituents on the development of the Fiscal Years 2026-2030 NIH-Wide Strategic Plan for Sexual and Gender Minority Health Research. This plan will describe future directions in sexual and gender minority (SGM) health and research to optimize NIH's research investments.

DATES: The SGMRO's RFI is open for public comment for a period of 60 days. Comments must be received on or before 11:59:59 p.m. ET, June 26, 2024, to ensure consideration. After the public comment period has closed, comments received by SGMRO will be considered in a timely manner for the development of the Fiscal Years 2026-2030 NIH-Wide Strategic Plan for SGM Health Research.

How To Submit a Response

All responses should be submitted electronically at the RFI submission website, https://rfi.grants.nih.gov/?s=660c63fa171bc46e9c038e92, by 11:59:59 p.m. (ET) on June 26, 2024. You will receive an electronic confirmation acknowledging receipt of your response.

FOR FURTHER INFORMATION CONTACT: Irene Avila, Ph.D., Assistant Director, Sexual & Gender Minority Research Office (SGMRO), SGMRO@nih.gov, (301) 594-9701.

SUPPLEMENTARY INFORMATION:

Background: “Sexual and gender minority” is an umbrella term that includes, but is not limited to, individuals who identify as lesbian, gay, bisexual, asexual, transgender, Two-Spirit, queer, and/or intersex. Individuals with same-sex or -gender attractions or behaviors and those with variations in sex characteristics are also included. These populations also encompass those who do not self-identify with one of these terms but whose sexual orientation, gender identity or expression, or reproductive development is characterized by non-binary constructs of sexual orientation, gender, and/or sex.

The Sexual and Gender Minority Research Office (SGMRO) at https://dpcpsi.nih.gov/sgmro coordinates sexual and gender minority (SGM)-related research and activities by working directly with the National Institutes of Health (NIH) Institutes, Centers, and Offices. The Office was officially established in September 2015 within the NIH Division of Program Coordination, Planning, and Strategic Initiatives in the Office of the Director.

This Federal Register notice is in accordance with the 21st Century Cures Act, requiring NIH to regularly update their strategic plans. In 2020, NIH launched its Strategic Plan to Advance Research on the Health and Well-being of Sexual and Gender Minorities, Fiscal Years (FY) 2021-2025 at https://dpcpsi.nih.gov/sites/default/files/SGMStrategicPlan_2021_2025.pdf. The current strategic plan is NIH's second strategic plan focused on SGM health research and has provided the NIH with a framework to improve the health of SGM populations through increased research and support of scientists conducting SGM health-related research. In January 2023, SGMRO published a mid-course review at https://dpcpsi.nih.gov/sites/default/files/2023-09/SGMRO-StrategicPlan-MidCourseReview-Report-5-508.pdf of the current NIH SGM strategic plan that provided recommendations to support further progress on the goals described therein. To establish NIH priorities in SGM health-related research for the next five years, SGMRO requests input from SGM health, research, and related communities in refining the goals of the FY26-FY30 strategic plan.

Request for Comment on the NIH-Wide SGM Health Research Strategic Plan FY26—FY30: NIH is developing a strategic plan to advance SGM research in FY26-FY30. This RFI invites input from interested parties throughout the scientific research, advocacy, and clinical practice communities, federal partners, those employed by the Department of Health and Human Services (HHS) and NIH or at institutions receiving NIH support as well as the general public, regarding the below topics for the NIH-Wide Strategic Plan for SGM Health Research. This input is a valuable component in developing the SGM health research strategic plan, and the community's time and consideration are appreciated. NIH seeks comments and/or suggestions from all interested parties on the following topics:

• The highest priority needs, and emerging areas of opportunity related to SGM health research at NIH.

• Actions that NIH should prioritize to advance SGM health-related research.

• Partnerships NIH should pursue, both inside and outside of government, to advance SGM health-related research.

• Any other relevant topics that NIH should consider when developing the next NIH-Wide strategic plan for SGM health research.

NIH encourages organizations (e.g., patient advocacy groups, professional organizations) to submit a single response reflective of the views of the organization or membership as a whole. Responses to this RFI are voluntary. Do not include any proprietary, classified, confidential, trade secret, or sensitive information in your response. The responses will be reviewed by NIH staff, and individual feedback will not be provided to any responder. The Government will use the information submitted in response to this RFI at its discretion. The Government reserves the right to use any submitted information on public NIH websites; in reports; in summaries of the state of the science; in any possible resultant solicitation(s), grant(s), or cooperative agreement(s); or in the development of future funding opportunity announcements.

This RFI is for information and planning purposes only and should not be construed as a solicitation for applications or proposals, or as an obligation in any way on the part of the United States Federal Government, NIH, or individual NIH Institutes, Centers, and Offices to provide support for any ideas identified in response to it. The Federal Government will not pay for the preparation of any information submitted or for the Government's use of such information.

No basis for claims against the U.S. Government shall arise as a result of a response to this RFI or from the Government's use of such information. Additionally, the Government cannot guarantee the confidentiality of the information provided.

Dated: May 2, 2024.
Lawrence A. Tabak,
Principal Deputy Director, National Institutes of Health.

[FR Doc. 2024-10134 Filed 5-8-24; 8:45 am]

BILLING CODE 4140-01-P